DEPARTMENT OF AGRICULTURE

Grain Inspection, Packers and Stockyards Administration

7 CFR Part 800

RIN 0580-AA81

Fees for Official Inspection and Official Weighing Services

Correction

In rule document 03-13679 beginning on page 32623 in the issue of Monday, June 2, 2003, make the following correction:

§800.71 [Corrected]

On page 32626, in §800.71, Table 2 is corrected in part to read as set forth below.

* * * * *

Table 2.—Services Performed at Other Than an Applicant's Facility in an FGIS Laboratory ¹ ²
(2) Appeal inspection and review of weighing service ⁴
(i) Board Appeals and Appeals (grade and factor) | 82.00
(a) Factor only (per factor—max 2 factors) | 43.00
(b) Sampling service for Appeals additional (hourly rates from Table 1)

* * * * *

[FR Doc. C3-13679 Filed 6-12-03; 8:45 am]

BILLING CODE 1505-01-D